DEPARTMENT OF THE INTERIOR

Fish and Wildlife Service

Notice of Application To Amend an Endangered Species Act Incidental Take Permit: Inclusion of the Canada Lynx on the Washington Department of Natural Resources Permit for Western Washington

AGENCY: Fish and Wildlife Service.

ACTION: Notice of Permit Amendment Application.

SUMMARY: This notice advises the public that the Fish and Wildlife Service (Service) has received a request to add the Canada lynx (Lynx canadensis) to the list of species covered by incidental take permit PRT-812521, issued to the Washington Department of Natural Resources (WDNR). This request is provided for under the Implementation Agreement for the Habitat Conservation Plan (Plan) accompanying the incidental take permit, and applies to forest management activities on WDNR lands west of the crest of the Cascade Mountain Range in the State of Washington. The purpose of this notice is to seek public comment on the Service's proposed permit amendment.

DATES: Written comments regarding the Service's proposal to add the Canada lynx to the WDNR permit must be received on or before May 24, 2001.

ADDRESSES: Written comments should be addressed to Jon Avery, U.S. Fish and Wildlife Service, 510 Desmond Drive, SE., Suite 102, Lacey, Washington 98503. Documents cited in this notice and comments received will be available for public inspection by appointment during normal business hours (8 a.m. to 5 p.m., Monday through Friday).

FOR FURTHER INFORMATION CONTACT: Jon Avery, Wildlife Biologist, U.S. Fish and Wildlife Service, 510 Desmond Drive, SE., Suite 102, Lacey, Washington 98503, (360) 753-5824.

SUPPLEMENTARY INFORMATION: On January 30, 1997, the Service issued an incidental take permit (PRT-812521) to WDNR, pursuant to section 10(a)(1)(B) of the Endangered Species Act (Act) of 1973, as amended (16 U.S.C. 1532 et seq.). The Plan and an Environmental Impact Statement associated with the original permit decision analyzed the effects that implementing the Plan would have on listed species and unlisted species including the Canada Lynx. The original permit authorizes the incidental take of the threatened northern spotted owl (Strix occidentalis caurina), and other listed species, in the course of otherwise legal forest management activities related to timber and non-timber resource uses within the range of the northern spotted owl that occurs on WDNR lands.

Pursuant to the Plan and the Implementation Agreement, WDNR also received assurances from the Service, with respect to WDNR-manager land west of the Cascade Crest, that specific, unlisted species would be added to the permit upon their listing under the Act in accordance with the Plan and the Implementation Agreement.

On March 24, 2000, the Service listed the Canada lynx as a threatened species throughout its range in the contiguous United States (65 FR 16051). On April 25, 2000, WDNR requested that the Canada lynx be added to their permit. The Service is proposing to respond to WDNR's request and determine if adding the Canada lynx occurring west of the Cascade Crest to the WDNR permit is appropriate.

Following the proposal to list the Canada lynx as threatened or endangered under the Act the Service receives significant public comments and data. The Service is reviewing that information to determine if the Service's initial Canada lynx determinations for the WDNR permit remains valid. The findings of that review along with any new information obtained through this public comment request will be used in the Service's decision making process.

According to the Implementation Agreement for the WDNR Plan, if any species addressed in the Plan that was unlisted at the time of permit issuance subsequently becomes listed under the Act, WDNR may request a permit amendment to have the species added to their permit with respect to their lands west of the Cascade Crest. Under the terms of the Plan and the Implementation Agreement, the Service would add the newly listed species to the WDNR permit without requiring additional mitigation unless extraordinary circumstances exist. Extraordinary circumstances defined in the WDNR Implementation Agreement to mean continued WDNR Plan management activities that would result in a substantial and material adverse change in the status of a species that was not foreseen on the effective date of the Implementation Agreement and that can be remedied by additional or different mitigation measures on the permit lands.

Prior to adding the Canada lynx to the WDNR permit, the Service will determine whether adding this species to WDNR's permit would appreciably reduce the likelihood of its survival and recovery of the wild. To make this determination, the Service will follow the section 7 process under the Act. The Service will also determine whether the permit amendment meets each of the issuance criteria described in section 10(a)(2)(B) of the Act and that extraordinary circumstances have not occurred since initial permit issuance.

At the time of initial permit issuance, the Service made a preliminary determination that the WDNR Plan adequately provided for the conservation of the Canada lynx. The Service included that analysis as Appendix B (Analysis of Impacts of the Washington Department of Natural Resources Habitat Conservation Plan on unlisted Species Within the Planning Area) of the Statement of Findings. In that analysis the Service noted that the Canada lynx uses a mosaic of forest types from early-successional to mature conifer and deciduous forests and the presence of snowshoe hares, a species upon which they are almost totally dependent as prey. The Canada lynx forages in early-successional forests and dens in mature forests.

The Service analysis further determined that the Canada lynx could occur on WDNR-managed lands west of the Cascade Crest but that the likelihood is low. The WDNR-managed lands most likely to support the Canada lynx would be the higher elevation lands in proximity to National Forests. The location of these lands is similar to the location of lands that will be managed under the habitat conservation plan for northern spotted owl nesting and foraging habitats (NRF-management areas). The service expects the amount of early seral forest to decrease in these areas while the amount of complex forest will increase. However, the quality of the early seral forest habitat will increase under the Plan due to conservation measures associated with structural retention and other harvest practices, as well as a reduction in and regulation of herbicide spraying. In addition to the amount and quality of managed forests provided by the WDNR plan, the Canada lynx is expected to benefit from the mosaic of natural habitats including avalanche chutes, high-elevation meadows, and old burns. The Service also determined in the analysis for the original permit that species such as the snowshoe hare will find sufficient amounts of foraging and hiding habitat within the Plan area throughout the terms of the permit thus providing the essential prey-based necessary for Canada lynx to possibly occupy WDNR-managed lands west of the Cascade Crest.

This notice is provided pursuant to section 10(a) of the Endangered Species Act and the regulations of the National Environmental Policy Act of 1969 (40 CFR 1506.6). All comments that we receive, including names and addresses, will become part of the official administrative record and may be made available to the public. We will evaluate the application, associated document, and comments submitted thereon to determine whether the application meets the requirements of the National Environmental Policy Act regulations and section 10(a) of the Endangered Species Act. If we determine that those requirements are met, we will issue a permit to the Applicant for the incidental take of the Canada lynx. We will make our final permit decision no sooner that 45 days from the date of this notice.

Dated: March 9, 2001.
Rowan W. Gould,
Acting Regional Director, Fish and Wildlife Service, Region 1, Portland, Oregon.

[FR Doc. 01-10066 Filed 4-23-01; 8:45 am]

BILLING CODE 4310-55-M